DEPARTMENT OF JUSTICE

Antitrust Division

Notice Pursuant to the National Cooperative Research and Production Act of 1993—Theatrical Dealers Association D/B/A Entertainment Services and Technology Association

Notice is hereby given that, on September 9, 2004, pursuant to Section 6(a) of the National Cooperative Research and Production Act of 1993, 15 U.S.C. 4301 et seq. (“the Act”), Theatrical Dealers Association d/b/a Entertainment Services and Technology Association (“ESTA”) has filed written notifications simultaneously with the Attorney General and the Federal Trade Commission disclosing (1) the name and principal place of business of the standards development organization and (2) the nature and scope of its standards development activities. The notifications were filed for the purpose of invoking the Act's provisions limiting the recovery of antitrust plantiffs to actual damages under specified circumstances.

Pursuant to section 6(b) of the Act, the name and principal place of business of the standards development organization is: Theatrical Dealers Association d/b/a Entertainment Services and Technology Association, New York, NY. The nature and scope of ESTA's standards development activities are: The development of technical standards used in the entertainment industry, principally in the live entertainment industry, that promote compatibility among equipment, products, and systems of competing manufacturers or that are designed to prevent unreasonable risks of injury to either persons or property through equipment or products or the manner in which they are to be used.

Dorothy B. Fountain,
Deputy Director of Operations, Antitrust Division.

[FR Doc. 04-23525 Filed 10-20-04; 8:45 am]

BILLING CODE 4410-11-M